DEPARTMENT OF DEFENSE

Office of the Secretary

Defense Task Force on Sexual Assault in the Military Services

AGENCY: Office of the Assistant Secretary of Defense (Personnel and Readiness); DoD.

ACTION: Notice of meeting.

SUMMARY: Pursuant to the Federal Advisory Committee Act of 1972 (5 U.S.C., Appendix, as amended), the Sunshine in the Government Act of 1976 (5 U.S.C. 552b, as amended), and 41 CFR 102-3.150 and 160, the following meeting notice is announced:

Name of Committee: Defense Task Force on Sexual Assault in the Military Services (hereafter referred to as the Task Force).

Date: March 19, 2007 through March 21, 2007.

Time: 8:30 a.m. to 5 p.m.

Location: Marshall Hall, National Defense University, Fort McNair, Washington, DC 20319-5066.

Purpose of the Meeting: The purpose of the administrative and preparatory working meeting is to: (a) Discuss administrative matters of the Task Force; (b) receive administrative information from the Department of Defense; and (c) receive background information from the Task Force staff, in preparation of the Task Force's first public meeting.

The administrative working meeting will be held at Marshall Hall from 8:30 a.m. to 12 p.m. on Monday, March 19, 2007. The preparatory working meetings will be held at Marshall Hall from (a) 1:30 p.m. to 5 p.m. on Monday March 19, 2007; and (b) 8:30 a.m. to 12 p.m., and 1:30 p.m. to 5 p.m. on Tuesday and Wednesday March 20 and 21, 2007.

Both the Administrative and Preparatory Work Meetings, pursuant to 41 CFR 102-3.160, are closed to the public.

In addition, the Committee Management Officer for the Department of Defense, pursuant to 41 CFR 102-3.150(b), waives the 15-calendar day notification requirement. The basis for this waiver is the recent selection of the Task Force members and the Agency's request that the Task Force immediately begin its work.

FOR FURTHER INFORMATION CONTACT: Lieutenant Shaka Thorne, U.S. Navy, Designated Federal Officer, Defense Task Fore on Sexual Assault in the Military Services, 2850 Eisenhower Ave, Suite 100, Alexandria, Virginia 22314.

Telephone: (703) 325-6640.

Fax: (703) 325-6710/6711, DSN# 221, shaka.thorne@wso.whs.mil.

Dated: March 7, 2007.
C.R. Choate,
Alternate OSD Federal Register Liaison Officer, Department of Defense.

[FR Doc. 07-1164 Filed 3-8-07; 11:16 am]

BILLING CODE 5001-06-M